DEPARTMENT OF STATE

[Public Notice 8193]

Preparations for the International Telecommunication Union World Telecommunication Development Conference (ITU WTDC 2014)

SUMMARY: This notice announces meetings of an ad hoc group of the Department of State's International Telecommunication Advisory Committee (ITAC) to begin preparations for the ITU World Telecommunication Development Conference (WTDC 2014). The meetings are announced to the ITAC committee and referred to the ITAC-D ad hoc for action. The process for joining the ITAC-D ad hoc is described.

The Department of State announces the beginning of the preparatory process for the ITU WTDC to be held in 2014. The preparatory meetings will be held by the ITAC-D ad hoc of the ITAC on Tuesdays March 12 and 19, April 2, 16, and 30, 2013 at 1300 Eye Street NW., Washington, DC fourth floor West Tower, all at 2-4 p.m. Eastern Time.

Attendance at these meetings is open to the public as seating capacity allows. The public will have an opportunity to provide comments at these meetings. A conference bridge will be provided to those people outside the Washington Metro area who request it from the secretariat.

Initial details on these meetings will be announced on the Department of State's email list, ITAC@lmlist.state.gov. Subsequent emails will be posted on the Department of State's email list, ITAC-D@lmlist.state.gov.

People desiring further information on these preparatory meetings, including those wishing to request reasonable accommodation to attend the meeting and those who wish to participate in the ITAC or ITAC-D lists, should contact the Secretariat at both minardje@state.gov and jminard@artelinc.com, by March 1, 2013.

Dated: February 14, 2013.
Doreen McGirr,
Foreign Affairs Officer, International Communications & Information Policy, U.S. Department of State.

[FR Doc. 2013-04027 Filed 2-20-13; 8:45 am]

BILLING CODE 4710-07-P